DEPARTMENT OF HEALTH AND HUMAN SERVICES

Centers for Disease Control and Prevention

Board of Scientific Counselors, Office of Public Health Preparedness and Response, (BSC, OPHPR)

AGENCY: Centers for Disease Control and Prevention (CDC), Department of Health and Human Services (HHS).

ACTION: Notice of meeting.

SUMMARY: In accordance with section 10(a)(2) of the Federal Advisory Committee Act (Pub. L. 92-463), the Centers for Disease Control and Prevention (CDC), announces the following meeting for the Board of Scientific Counselors, Office of Public Health Preparedness and Response, (BSC, OPHPR). This meeting is open to the public, limited only by the space available. The meeting room accommodates up to 75 people. Public participants should pre-register for the meeting as described below.

Members of the public that wish to attend this meeting in person should pre-register by submitting the following information by email, facsimile, or phone (see Contact Person for More Information) no later than 12:00 noon (EDT) on Tuesday, October 23, 2017:

• Full Name

• Organizational Affiliation

• Complete Mailing Address

• Citizenship

• Phone Number or Email Address

The public is also welcome to listen to the meeting via Adobe Connect. Pre-registration is required by clicking the links below.

WEB ID for October 30, 2017: (100 seats) https://adobeconnect.cdc.gov/e7yrlzismvq/event/registration.html.

WEB ID for October 31, 2017: (100 seats) https://adobeconnect.cdc.gov/e4icit9ctcz/event/registration.html.

Dial in number: 888-324-3809 (100 seats).

Participant code: 3293468.

DATES: The meeting will be held on October 30, 2017, 10:00 a.m. to 5:00 p.m., ET; October 31, 2017, 8:30 a.m. to 3:30 p.m., ET.

ADDRESSES: Centers for Disease Control and Prevention (CDC), Global Communications Center, Building 19, Auditorium B3, 1600 Clifton Road NE., Atlanta, Georgia 30329.

FOR FURTHER INFORMATION CONTACT: Dometa Ouisley, Office of Science and Public Health Practice, Centers for Disease Control and Prevention, 1600 Clifton Road NE., Mailstop D-44, Atlanta, Georgia 30329, Telephone: (404) 639-7450; Facsimile: (404) 471-8772; Email: OPHPR.BSC.Questions@cdc.gov.

SUPPLEMENTARY INFORMATION:

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review for OPHPR scientific programs. For additional information about the Board, please visit: http://www.cdc.gov/phpr/science/counselors.htm.

Matters To Be Considered: The agenda for day one of the meeting will include discussions that will cover briefings and BSC deliberation on the following topics: Interval updates from OPHPR Divisions and Offices; updates from the Biological Agent Containment working group; overview of OPHPR division roles and responsibilities during complex emergencies; and Preparedness Updates from Liaison Representatives.

Day two of the meeting will cover briefings and BSC deliberation on the following topics: OPHPR Office of Policy, Planning and Evaluation Stories Project; Public Health Preparedness and Response Social Media and Communications Metrics; Incident Management Training Development Program updates, OPHPR Practice-based Research Agenda and Synthesis and Translation of Public Health Preparedness and Response Research. Agenda items are subject to change as priorities dictate.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-20082 Filed 9-20-17; 8:45 am]

BILLING CODE 4163-19-P